DEPARTMENT OF TRANSPORTATION

Pipeline and Hazardous Materials Safety Administration

49 CFR Parts 172 and 175

[Docket No. PHMSA-2015-0100 (HM-259)]

RIN 2137-AF10

Hazardous Materials: Notification of the Pilot-in-Command and Response to Air Related Petitions for Rulemaking

Correction

In rule document 2018-22114, appearing on pages 52878 through 52900 in the issue of Thursday, October 18, 2017, make the following correction:

On page 52895, between row four and row five, the table is corrected by inserting following the row as set forth below.

Hexafluorophosphoric acid | 8 | UN1782 | II | 8 | A7, B2, IB2, N3, N34, T8, TP2 | None | 202 | 242 | 1 L | 30 L | A |

[FR Doc. C1-2018-22114 Filed 10-30-18; 8:45 am]

BILLING CODE 1301-00-D